DEPARTMENT OF HEALTH AND HUMAN SERVICES

National Institutes of Health

National Institute on Drug Abuse; Amended Notice of Meeting

Notice is hereby given of a change in the meeting of the National Institute on Drug Abuse Special Emphasis Panel, February 22, 2011, 8 a.m. to February 25, 2011, 5 p.m., Embassy Suites at the Chevy Chase Pavilion, 4300 Military Road, NW., Washington, DC 20015 which was published in the Federal Register on October 15, 2010, 75; 199 FR 2010-26025.

The date and time of the meeting were changed to February 22, 2011, 9 a.m. to February 23, 2011, 5 p.m. The meeting is closed to the public.

Dated: January 14, 2011.
Jennifer S. Spaeth,
Director, Office of Federal Advisory Committee Policy.

[FR Doc. 2011-1241 Filed 1-20-11; 8:45 am]

BILLING CODE 4140-01-P